DEPARTMENT OF COMMERCE

National Oceanic and Atmospheric Administration

Proposed Information Collection; Comment Request; Southeast Region Bottlenose Dolphin Conservation Outreach Survey

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before September 15, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Stacey Carlson, (727) 824-5312 or Stacey.carolson@noaa.gov and Michelle McGregor, (301) 713-1406 or michelle.mcgregor@noaa.gov.

SUPPLEMENTARY INFORMATION:

I. Abstract

The objective of these surveys is to assess the level of awareness on issues related to regulations preventing feeding/harassment of wild bottlenose dolphins, which are protected under the Marine Mammal Protection Act. In particular, the surveys are designed to determine what commercial operators and the general public know about specific regulations prohibiting feeding and harassment of bottlenose dolphins, and how they gained their knowledge and/or perceptions on the topic. The initial geographic region for this survey is Panama City, Florida, where numerous incidences of dolphin harassment and feeding have been documented. The intent is to also use this survey in other areas of the southeast region to gain a similar understanding and ensure outreach messages are appropriate for intended audiences.

The recordkeeping and reporting requirements at 50 CFR part 679 form the basis for this collection of information. The National Marine Fisheries Service (NMFS) will request information from local residents, tourists and commercial businesses through a one-time survey. This information, upon receipt, will be used to develop effective and better-targeted outreach efforts in order to enhance bottlenose dolphin conservation in Florida.

II. Method of Collection

Participants voluntarily complete paper questionnaires and methods of submittal include on-site, mail, and facsimile transmission of paper forms.

III. Data

OMB Control Number: None.

Form Number: None.

Type of Review: Regular submission.

Affected Public: Individuals or households; business or other for-profit organizations.

Estimated Number of Respondents: 1,200.

Estimated Time per Response: 30 minutes.

Estimated Total Annual Burden Hours: 600.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 14, 2008.
Gwellnar Banks,
Management Analyst, Office of the Chief Information Officer.

[FR Doc. E8-16311 Filed 7-16-08; 8:45 am]

BILLING CODE 3510-22-P